DEPARTMENT OF TRANSPORTATION

Federal Aviation Administration

14 CFR Part 39

[Docket No. FAA-2016-6928; Directorate Identifier 2016-SW-018-AD; Amendment 39-18864; AD 2017-09-02]

RIN 2120-AA64

Airworthiness Directives; Airbus Helicopters Deutschland GmbH Helicopters

AGENCY: Federal Aviation Administration (FAA), DOT.

ACTION: Final rule.

SUMMARY: We are adopting a new airworthiness directive (AD) for Airbus Helicopters Deutschland GmbH Helicopters (Airbus Helicopters) Model MBB-BK 117 C-2 and MBB-BK 117 D-2 helicopters. This AD requires installing rivets to the air inlet cover rings (rings). This AD was prompted by reports of rings detaching. The actions of this AD are intended to prevent the unsafe condition on these products.

DATES: This AD is effective May 31, 2017.

The Director of the Federal Register approved the incorporation by reference of certain documents listed in this AD as of May 31, 2017.

ADDRESSES: For service information identified in this final rule, contact Airbus Helicopters, 2701 N. Forum Drive, Grand Prairie, TX 75052; telephone (972) 641-0000 or (800) 232-0323; fax (972) 641-3775; or at https://www.airbushelicopters.com/techpub/FO/scripts/myFO_login.php. You may review the referenced service information at the FAA, Office of the Regional Counsel, Southwest Region, 10101 Hillwood Pkwy., Room 6N-321, Fort Worth, TX 76177. It is also available on the Internet at http://www.regulations.gov by searching for and locating Docket No. FAA-2016-6928.

Examining the AD Docket

You may examine the AD docket on the Internet at http://www.regulations.gov by searching for and locating Docket No. FAA-2016-6928; or in person at the Docket Operations Office between 9 a.m. and 5 p.m., Monday through Friday, except Federal holidays. The AD docket contains this AD, the European Aviation Safety Agency (EASA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Discussion

On January 5, 2017, at 82 FR 1252, the Federal Register published our notice of proposed rulemaking (NPRM), which proposed to amend 14 CFR part 39 by adding an AD that would apply to Airbus Helicopters Model MBB-BK 117 C-2 (including configuration C-2e) helicopters, serial number 9004 through 9725, and Model MBB-BK 117 D-2 helicopters, serial number 20003 through 20045, with an air inlet part number (P/N) B212M20C1005 installed. The NPRM proposed inspecting each ring and determining if it is loose, and gluing and installing rivets to the rings. The proposed requirements were intended to prevent a ring from detaching, which could then become stuck between the air inlet and the cyclic stick, restricting movement of the cyclic stick. This condition could result in loss of helicopter control.

The NPRM was prompted by AD No. 2016-0001, dated January 4, 2016, issued by EASA, which is the Technical Agent for the Member States of the European Union, to correct an unsafe condition for Airbus Helicopters Model MBB-BK 117 C-2, Model MBB-BK117 C-2e, Model MBB-BK117 D-2, and MBB-BK117 D-2m helicopters. EASA advises that a ring detached and got stuck between the air inlet and the cyclic stick on a Model MBB-BK117 C-2 helicopter and an inspection on another helicopter found a second loose cover ring. EASA states that this condition, if not corrected, could affect the cyclic stick's range of movement, possibly resulting in degraded control of the helicopter. The EASA AD consequently requires inspections and reinforcement of the rings' installation.

Comments

We gave the public the opportunity to participate in developing this AD, but we received no comments on the NPRM.

FAA's Determination

These helicopters have been approved by the aviation authority of Germany and are approved for operation in the United States. Pursuant to our bilateral agreement with Germany, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD applies to Model MBB-BK117 D-2m helicopters. This AD does not because this model does not have an FAA type certificate. The EASA AD requires compliance for Model MBB-BK117 D-2 helicopters within 400 hours time-in-service (TIS), while this AD requires compliance within 100 hours TIS. The EASA AD requires marking the air inlet with the applicable alert service bulletin once it is glued and riveted, while this AD does not.

Related Service Information Under 1 CFR Part 51

We reviewed Airbus Helicopters Alert Service Bulletin (ASB) MBB-BK117 C-2-21A-011 for Model MBB-BK 117 C-2 and Model MBB-BK117 C-2e helicopters and ASB MBB-BK117 D-2-21A-004 for Model MBB-BK 117 D-2 and Model MBB-BK 117 D-2m helicopters. Both ASBs are Revision 0 and dated November 16, 2015. This service information introduces an improved attachment method for the ring using rivets. The ASBs specify inspecting the air inlet to determine whether the ring is loose, and then gluing and riveting the ring to the air inlet at different timeframes, depending on whether it is loose.

This service information is reasonably available because the interested parties have access to it through their normal course of business or by the means identified in the ADDRESSES section.

Costs of Compliance

We estimate that this AD affects 141 helicopters of U.S. Registry and that labor costs average $85 per work-hour. Based on these estimates, we expect the following costs:

Manually inspecting the left and right air inlet cover rings requires a half work-hour for a labor cost of $43 per helicopter. No parts are needed, so the U.S. fleet cost totals $6,063.

Riveting the rings requires 2 work-hours for a labor cost of $170 per helicopter. The cost for parts is minimal for a U.S. fleet cost of $23,970.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-09-02 Airbus Helicopters Deutschland GmbH: Amendment 39-18864; Docket No. FAA-2016-6928; Directorate Identifier 2016-SW-018-AD.

(a) Applicability

This AD applies to Airbus Helicopters Deutschland GmbH Model MBB-BK 117 C-2 (including configuration C-2e) helicopters, serial number 9004 through 9725, and Model MBB-BK 117 D-2 helicopters, serial number 20003 through 20045, certificated in any category, with an air inlet part number (P/N) B212M20C1005 installed.

(b) Unsafe Condition

This AD defines the unsafe condition as a detached air inlet cover ring (ring), which could become stuck between the air inlet and the cyclic stick, restricting movement of the cyclic stick. This condition could result in loss of helicopter control.

(c) Effective Date

This AD becomes effective May 31, 2017.

(d) Compliance

You are responsible for performing each action required by this AD within the specified compliance time unless it has already been accomplished prior to that time.

(e) Required Actions

(1) Within 100 hours time-in-service (TIS), manually inspect each ring to determine if it is loose. If a ring is loose, before further flight, glue the ring on the air inlet using an adhesive (CM 687 or CM 6044 or equivalent) as shown in Figure 1 of Airbus Helicopters Alert Service Bulletin (ASB) MBB-BK117 C-2-21A-011, Revision 0, dated November 16, 2015 (ASB C-2-21A-011), or ASB MBB-BK117 D-2-21A-004, Revision 0, dated November 16, 2015 (ASB D-2-21A-004), as applicable to your model helicopter. Rivet the ring to the air inlet in accordance with the Accomplishment Instructions, paragraphs 3.B.4.2 through 3.B.4.4 of ASB C-2-21A-011 or paragraphs 3.B.3.2 through 3.B.3.4 of ASB D-2-21A-004.

(2) If a ring is not loose, within 400 hours TIS:

(i) Manually inspect the ring to determine if it is loose. If the ring is loose, before further flight, glue the ring on the air inlet using an adhesive (CM 687 or CM 6044 or equivalent) as shown in Figure 1 of ASB C-2-21A-011 or ASB D-2-21A-004.

(ii) Rivet the ring to the air inlet in accordance with the Accomplishment Instructions, paragraphs 3.B.3.2 through 3.B.3.4 of ASB C-2-21A-011 or paragraphs 3.B.2.2 through 3.B.2.4 of ASB D-2-21A-004.

(3) After the effective date of this AD, do not install an air inlet P/N B212M20C1005 on any helicopter unless the ring has been riveted to the air inlet in accordance with the requirements of this AD.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency (EASA) AD No. 2016-0001, dated January 4, 2016. You may view the EASA AD on the Internet at http://www.regulations.gov in Docket No. FAA-2016-6928.

(h) Subject

Joint Aircraft Service Component (JASC) Code: 2150, Cabin Cooling System.

(i) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Alert Service Bulletin MBB-BK117 C-2-21A-011, Revision 0, dated November 16, 2015.

(ii) Airbus Helicopters Alert Service Bulletin MBB-BK117 D-2-21A-004, Revision 0, dated November 16, 2015.

(3) For Airbus Helicopters service information identified in this AD, contact Airbus Helicopters, 2701 N. Forum Drive, Grand Prairie, TX 75052; telephone (972) 641-0000 or (800) 232-0323; fax (972) 641-3775; or at https://www.airbushelicopters.com/techpub/FO/scripts/myFO_login.php.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 18, 2017.
Scott A. Horn,
Acting Manager, Rotorcraft Directorate, Aircraft Certification Service.

[FR Doc. 2017-08185 Filed 4-25-17; 8:45 am]

BILLING CODE 4910-13-P